DEPARTMENT OF JUSTICE

[AAG/A Order No. 017-2006]

Privacy Act of 1974; System of Records

AGENCY: Office of Attorney Recruitment and Management, Justice Management Division, U.S. Department of Justice.

ACTION: Notice of a new system of records.

SUMMARY: Pursuant to the provisions of the Privacy Act of 1974 (5 U.S.C. 552a), notice is given that the Department of Justice (DOJ or the Department), Justice Management Division's Office of Attorney Recruitment and Management (OARM) proposes to establish a new system of records entitled “Attorney Student Loan Repayment Program Applicant Files.” The Department is implementing the Federal Government's authority set forth at 5 U.S.C. 5379 to establish a program providing for repayment of federally made or insured student loans when necessary to attract or retain highly qualified individuals for employment as attorneys within DOJ. Subject to the requirements of law and regulation, the Department can make payments to Federal student loan holders (lenders) on behalf of an employee, thus reducing an employee's Federal student loan debt.

DATES: In accordance with the requirements of 5 U.S.C. 552a(e)(4) and (11), the public is given a 30-day period in which to comment. The Office of Management and Budget (OMB), which has oversight responsibility under the Act, requires a 40-day period in which to conclude its review of the system. Therefore, please submit any comments on or before December 13, 2006.

ADDRESSES: The public, OMB, and the Congress are invited to submit any comments to Mary E. Cahill, Management and Planning Staff, Justice Management Division, Department of Justice, Washington, DC 20530 (Room 1400, National Place Building).

FOR FURTHER INFORMATION CONTACT: Mary E. Cahill, (202) 307-1823.

SUPPLEMENTARY INFORMATION: The Privacy Act (5 U.S.C. 552a(e)(4)) requires the Department to publish in the Federal Register this notice of a new system of records managed by the Department. The Department's regulations implementing the Act are contained in 28 CFR part 16. The Privacy Act applies to a record about an individual that is maintained in a system of records from which information is retrieved by a unique personal identifier, such as a name or social security number. The information about each individual is called a “record,” and the system, whether manual or computer-driven, is called a “system of records.” The Privacy Act requires each agency to publish notices of systems of records in the Federal Register and to prepare reports to OMB whenever the agency publishes a new or “altered” system of records.

The records in this system contain requests for repayment benefits, information pertaining to the DOJ employees who are approved to receive benefits, as well as the benefit amounts and service agreements specific to each individual case. Information contained in this system will be used by the Department to compile annual reports for the Office of Personnel Management (OPM) on the Department's use of the Student Loan Repayment authority.

The official version of this document is the document published in the Federal Register. Free Internet access to the official edition of the Federal Register and the CFR is available on GPO Access at: http://www.access.gpo.gov/nara/index.html.

In accordance with 5 U.S.C. 552a(r), the Department has provided a report to OMB and the Congress.

Dated: October 16, 2006.
Lee Lofthus,
Acting Assistant Attorney General for Administration.

JUSTICE MANAGEMENT DIVISION, JMD-024

SYSTEM NAME:

Attorney Student Loan Repayment Program Applicant Files, Justice/JMD-024.

SECURITY CLASSIFICATION:

The information in this system is not classified.

SYSTEM LOCATION:

Records in this system are located at the Department of Justice, Justice Management Division, Office of Attorney Recruitment and Management, 20 Massachusetts Avenue, NW., Suite 5100, Washington, DC 20530.

CATEGORIES OF INDIVIDUALS COVERED BY THE SYSTEM:

This system contains records and related correspondence on persons serving in or hired to serve in a Department attorney position who submit applications for participation in the Attorney Student Loan Repayment Program (ASLRP), as well as attorneys who have been previously approved for and who are presently receiving or previously have received such benefits.

CATEGORIES OF RECORDS IN THE SYSTEM:

Records may include: employees' (or potential employees') names, home and work addresses, social security numbers, student loan account numbers, loan balances, repayment schedules, repayment histories, and repayment status. They may also include loan holders' names, addresses, and telephone numbers, Employee Service Agreements, justifications, and other correspondence relating to employees' (or potential employees') applications.

AUTHORITY FOR MAINTENANCE OF THE SYSTEM:

The system is based on the provisions of 5 U.S.C. 5379, as amended.

PURPOSE(S):

The ASLRP is an agency recruitment and retention incentive program. Based on the provisions of 5 U.S.C. 5379, as amended, the ASLRP is an incentive program designed to recruit and retain highly qualified attorneys for hard-to-fill positions. Any Department of Justice employee serving in or hired to serve in an attorney position may request consideration for the ASLRP.

Records in this system are necessary in order for the Department to determine the eligibility of each applicant requesting consideration for a student loan repayment. These records are maintained to determine eligibility and benefits and to process requests to receive student loan repayments. The records are also used by the Department to prepare its reports for the Office of Personnel Management (OPM), as required by 5 CFR 537.110.

ROUTINE USES OF RECORDS MAINTAINED IN THE SYSTEM, INCLUDING CATEGORIES OF USERS AND THE PURPOSES OF SUCH USES:

Records or information from this system of records may be disclosed under the following circumstances when it has been determined by the Department of Justice that such a need exists:

1. To the news media and the public, including disclosures pursuant to 28 CFR 50.2, unless it is determined that release of the specific information in the context of a particular case would constitute an unwarranted invasion of personal privacy.

2. To a Member of Congress or staff acting upon the Member's behalf when the Member or staff requests information on behalf of, and at the request of, the individual who is the subject of the record.

3. To the National Archives and Records Administration for purposes of records management inspections conducted under the authority of 44 U.S.C. 2904 and 2906.

4. Where a record, either alone or in conjunction with other information, indicates a violation or potential violation of law—criminal, civil, or regulatory in nature—the relevant records may be referred to the appropriate federal, state, local, tribal, or foreign law enforcement authority or other appropriate entity charged with the responsibility of investigating or prosecuting such a violation or charged with enforcing or implementing such law.

5. In an appropriate proceeding before a court, or administrative or adjudicative body, when the Department of Justice determines that the records are arguably relevant to the proceeding; or in an appropriate proceeding before an administrative or adjudicative body when the adjudicator determines the records to be relevant to the proceeding.

6. To an actual or potential party to litigation or the party's authorized representative for the purpose of negotiation or discussion of such matters as settlement, plea bargaining, or in informal discovery proceedings.

7. To appropriate officials and employees of a federal agency or entity which requires information relevant to a decision concerning the hiring, appointment, or retention of an employee; the issuance, renewal, suspension, or revocation of a security clearance, the execution of a security or suitability investigation; the letting of a contract; or the issuance of a grant or benefit.

8. To federal, state, local, tribal, foreign, or international licensing agencies or associations which require information concerning the suitability or eligibility of an individual for a license or permit.

9. To contractors, grantees, experts, consultants, students, and others performing or working on a contract, service, grant, cooperative agreement, or other assignment for the Federal Government, when necessary to accomplish an agency function related to this system of records.

10. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

11. To OPM, any records or information in this system of records that OPM requests or requires pursuant to OPM's oversight and regulatory functions.

12. To other Federal agencies, hearing or court officials, and present employers of an employee in order for the Department to obtain repayment, if an employee fails to complete the period of employment under a service agreement and fails to reimburse the Department the amount of any student loan repayment benefits the employee received from the Department.

13. To the Department's payroll processing provider in order to calculate tax withholding and disburse payments of student loan repayment benefits to loan holders on behalf of employees approved to receive this benefit.

14. To student lending institutions or loan holders in order to obtain information (such as a borrower's account number, original and current loan balance, repayment schedule, repayment history, and current repayment status) to allow the Department to determine an employee's or potential employee's initial and continuing eligibility for this program, to facilitate accurate payments to student loan holders on behalf of eligible employees, and to ensure the Department discontinues making student loan repayments to individuals who do not remain eligible for them during the period of the service agreement.

15. To any criminal, civil, or regulatory law enforcement authority (whether federal, state, local, tribal, or foreign) where the information is relevant to the recipient entity's law enforcement responsibilities.

16. To appropriate agencies, entities, and persons when (1) it is suspected or confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

DISCLOSURE TO CONSUMER REPORTING AGENCIES:

Not applicable.

POLICIES AND PRACTICES FOR STORING, RETRIEVING, ACCESSING, RETAINING, AND DISPOSING OF RECORDS IN THE SYSTEM:

STORAGE:

Records are maintained in hard copy and in electronic form accessible with office automation software on Department computers within OARM's office suite.

RETRIEVABILITY:

Information is typically retrieved by name of the individual, or other personal identifiers (e.g., social security number).

SAFEGUARDS:

Information in this system is safeguarded in accordance with applicable rules and policies, including the Department's automated systems security and access policies. Records in this system are maintained in restricted access space in Department controlled facilities and offices. Computerized data is password protected. The information is accessed only by authorized Department personnel or by non-Department personnel properly authorized to assist in the conduct of an agency function related to these records. All physical access to the building where these records are maintained is controlled and monitored by security personnel.

RETENTION AND DISPOSAL:

The retention and disposal schedule for these records is pending approval of the National Archives and Records Administration.

SYSTEM MANAGER(S) AND ADDRESS:

Director, Office of Attorney Recruitment and Management, Justice Management Division, 20 Massachusetts Avenue, NW., Suite 5100, Washington, DC 20530.

NOTIFICATION PROCEDURE:

Address inquiries to the System Manager named above.

RECORD ACCESS PROCEDURE:

Requests for access to a record from this system must be in writing and should be addressed to the System Manager named above. The envelope and the letter should be clearly marked “Privacy Act Request.” Requests for access to records must comply with the Department's Privacy Act regulations, to include a general description of the records sought, and the requester's full name, current address, and date and place of birth. The request must be signed and dated, and either notarized or submitted under penalty of perjury. The requester may submit any other identifying data he/she wishes to furnish to assist in making a proper search of the system.

CONTESTING RECORD PROCEDURES:

Individuals desiring to contest or amend information maintained in this system should direct their requests according to the Records Access procedures and to the System Manager above, stating clearly and concisely what information is being contested, the reasons for contesting it, and the proposed amendment to the information sought.

RECORD SOURCE CATEGORIES:

Information in this system of records is obtained from the individual to whom the information applies, lending institutions holding student loans for the individual to whom the information applies, officials of the Department, and official Department documents.

EXEMPTIONS CLAIMED FOR THE SYSTEM:

None.

[FR Doc. E6-18477 Filed 11-2-06; 8:45 am]

BILLING CODE 4410-PB-P